CIVIL RIGHTS COMMISSION

Sunshine Act Meeting Notice

AGENCY: United States Commission on Civil Rights.

ACTION: Notice of Commission public business meeting.

DATES: Thursday, August 29, 2019, 10:30 a.m. EDT.

ADDRESSES: Meeting to take place by telephone

FOR FURTHER INFORMATION CONTACT: Brian Walch: (202) 376-8371; TTY: (202) 376-8116; publicaffairs@usccr.gov.

SUPPLEMENTARY INFORMATION: This business meeting is open to the public by telephone only: 800-822-2024, Conference ID 955-1456. Persons with disabilities who need accommodation should contact Pamela Dunston at (202) 376-8105 or at access@usccr.gov at least seven (7) business days before the date of the meeting.

Meeting Agenda

I. Approval of Agenda

II. Business Meeting

A. Discussion and Vote on Commission's report, Are Rights a Reality? Evaluating Civil Rights Enforcement

B. Discussion and Vote on Commission's report, Trauma at the Border: The Human Cost of Inhumane Immigration Policies

C. Management and Operations

• Staff Director's Report

III. Adjourn Meeting

Dated: August 7, 2019.
Brian Walch,
Director, Communications and Public Engagement.

[FR Doc. 2019-17227 Filed 8-7-19; 4:15 pm]

BILLING CODE 6335-01-P